FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on the proposed collection of information. In accordance with the Paperwork Reduction Act of 1995 (44 U.S.C. 3506(c)(2)(A)), this notice seeks comments concerning the Capability Assessment for Readiness (CAR) which collects data on the capabilities of States to effectively respond to major disasters and emergencies.

SUPPLEMENTARY INFORMATION: The CAR program was established based on the requirement recognized by both the U.S. Congress and FEMA that an assessment of State capabilities was needed to determine the States' readiness to effectively respond to major disasters, and secondarily that FEMA financial assistance to the States is being effectively utilized. The answers to these questions are provided in the CAR assessment that involves detailed programmatic questions on mitigation, preparedness, response, and recovery activities.

Section 313 of the Robert T. Stafford Disaster Relief and Emergency Assistance Act (Public Law 93-288, as amended) requires the President to “conduct annual reviews of activities of Federal agencies and State and local governments in major disaster and emergency preparedness and in providing major disaster and emergency assistance in order to assure maximum coordination and effectiveness of such programs. * * *”

Section 613 of the Stafford Act concerning financial contributions to States for necessary and essential State and local emergency preparedness personnel and administrative expenses provides that the State “shall make such reports in such form and content as the Director may require.”

Collection of Information

Title: Capability Assessment for Readiness (CAR).

Type of Information Collection: Extension of a currently approved collection.

OMB Number: 3067-0272.

Abstract. The Capability Assessment for Readiness is required for the Federal Emergency Management Agency to report the status of emergency management programs in the Nation to the President and the U.S. Congress. States, Territories and Insular Areas use it for program evaluation, strategic planning and budgeting. It is also needed for program evaluation and management to assure that Federal funding to Sate and local governments, Territories and Insular Areas is properly managed and targeted to those areas that need improvement and to satisfy the Government Performance and Results Act of 1993 and in order to meet the goals stated in the Strategic Plan of the Federal Emergency Management Agency. The data collected will be summarized in a report the President and Congress in early 2001.

Affected Public: State, Local, or Tribal Government (U.S. States and Territories).

Estimated Total Annual Burden Hours: 3,360 biennially.

FEMA forms | Number of respondents (A) | Frequency of response (B) | Hours per response (C) | Annual burden hours (A × B × C)
| 56 | Biennial | 60 | 3,360
Total | 56 | Biennial | 60 | ¹ 3,360
¹ 1,680 on an annual basis.

Estimated Cost. Cost to Federal Government is $478,000. The cost to the States is $87,360.

Comments

Written comments are solicited to (a) evaluate whether the proposed data collection is necessary for the proper performance of the agency, including whether the information shall have practical utility; (b) evaluate the accuracy of the agency's estimate of the burden of the proposed collection of information, including the validity of the methodology and assumptions used; (c) determine an estimated cost of the proposed data collections to respondents; (d) enhance the quality, utility, and clarity of the information to be collected; and, (e) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, FEMA Information Collections Officer, Federal Emergency Management Agency, 500 C Street, SW., Room 316, Washington, DC 20472.

FOR FURTHER INFORMATION CONTACT: For additional information contact Cassandra Ward, Preparedness, Training, and Exercises Directorate, at (202) 646-3703. Contact Ms. Anderson at (202) 646-2625 or by facsimile (202) 646-3524 or email: muriel.Anderson@fema.gov for copies of the proposed collection of information.

Dated: March 21, 2001.
Reginald Trujillo,
Director, Program Services Division, Operations Support Directorate.

[FR Doc. 01-7873 Filed 3-28-01; 8:45 am]

BILLING CODE 6718-04-P